FEDERAL MARITIME COMMISSION

Agency Information Collection Activities: 60-Day Public Comment Request

AGENCY: Federal Maritime Commission.

ACTION: Notice and request for comments.

SUMMARY: As part of our continuing effort to reduce paperwork and respondent burden, and as required by the Paperwork Reduction Act of 1995, the Federal Maritime Commission (FMC or Commission) invites comments on a new data collection concerning containerized vessel imports and exports to and from the United States.

DATES: Written comments must be submitted on or before October 7, 2022.

ADDRESSES: Submit comments for the proposed information collection requests to Lucille L. Marvin, Managing Director at email: omd@fmc.gov. The FMC will summarize any comments received in response to this notice in a subsequent notice and include them in its information collection submission to OMB for approval.

FOR FURTHER INFORMATION CONTACT: Copies of the information collections and instructions, or copies of any comments received, may be obtained by contacting Tara Nielsen at 202-523-5800 or omd@fmc.gov.

SUPPLEMENTARY INFORMATION:

Request for Comments

The Commission, as part of its continuing effort to reduce paperwork and respondent burden, invites the general public and other Federal agencies to comment on the continuing information collections listed in this notice, as required by the Paperwork Reduction Act of 1995 (44 U.S.C. 3501 et seq.).

Comments submitted in response to this notice will be included or summarized in our request for Office of Management and Budget (OMB) approval of the relevant information collection. All comments are part of the public record and subject to disclosure. Please do not include any confidential or inappropriate material in your comments. We invite comments on: (1) the necessity and utility of the proposed information collection for the proper performance of the agency's functions; (2) the accuracy of the estimated burden; (3) ways to enhance the quality, utility, and clarity of the information to be collected; and (4) the use of automated collection techniques or other forms of information technology to minimize the information collection burden.

Information Collections Open for Comment

Title: Container vessel imports and exports.

OMB Approval Number: 3072-XXXX.

Abstract: The Ocean Shipping Reform Act of 2022 (OSRA 2022) includes the following language, “The Federal Maritime Commission shall publish on its website a calendar quarterly report that describes the total import and export tonnage and the total loaded and empty 20-foot equivalent units per vessel (making port in the United States, including any territory or possession of the United States) operated by each ocean common carrier covered under this chapter. Ocean common carriers under this chapter shall provide to the Commission all necessary information, as determined by the Commission, for completion of this report.” 46 U.S.C. 41110. The FMC will request information on tonnage and 20-foot equivalent units from each identified common carrier on a monthly basis. The information will be used to compile and publish a quarterly report on total import and export tonnage and total loaded and empty 20-foot equivalent units per vessel operated by common carriers. The universe will be carriers that transport 1,500 or more 20-foot equivalent units per month (total across imports and exports, regardless of whether they are laden or empty) in or out of U.S. ports in international common carriage. The Commission estimates that approximately 70 of the 154 currently registered vessel-operating common carriers transport 1,500 or more 20-foot equivalent units per month, totaling over 99 percent of imported and exported containerized cargo.

Current Actions: This information being submitted contains a new data collection.

Type of Review: New data collection.

Needs and Uses: The Commission will use collected data to publish a quarterly report as directed by OSRA 2022.

Frequency: This information will be collected monthly.

Type of Respondents: The universe will be carriers who transport 1,500 20-foot equivalent units or more per month (total across imports and exports, regardless of whether they are laden) in or out of the U.S. in international common carriage.

Number of Annual Respondents: The Commission estimates an annual respondent universe of 70. The Commission expects the estimated number of annual respondents to remain at 70 in the future.

Estimated Time Per Response: The time per response is estimated at 80 person-hours for reporting.

Total Annual Burden: For the 70 annual respondents, the burden is calculated as 70 × 80 hours = 5,600 hours.

William Cody,
Secretary.

[FR Doc. 2022-16891 Filed 8-5-22; 8:45 am]

BILLING CODE P